DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Andrea Gacki, Director, tel.: 202-622-2490; Associate Director for Global Targeting, tel.: 202-622-2420; Assistant Director for Sanctions Compliance & Evaluation, tel.: 202-622-2490; Assistant Director for Licensing, tel.: 202-622-2480; or Assistant Director for Regulatory Affairs, tel. 202-622-4855.

SUPPLEMENTARY INFORMATION:

Electronic Availability

The SDN List and additional information concerning OFAC sanctions programs are available on OFAC's website (www.treasury.gov/ofac).

Notice of OFAC Actions

On March 17, 2022, OFAC determined that the property and interests in property subject to U.S. jurisdiction of the following persons are blocked under the relevant sanctions authorities listed below.

Individual

1. GOETZ, Alain Francois Viviane (a.k.a. GOETZ, Alain; a.k.a. GOZ, Alen), The Palm Jumeirah 0-35, 65919, Dubai, United Arab Emirates; Villa 39, Frond N, The Palm Jumeirah, Dubai, United Arab Emirates; DOB 24 Apr 1965; alt. DOB 20 Apr 1965; POB Antwerp, Belgium; nationality Belgium; citizen Turkey; Gender Male; Passport EP985086 (Belgium) issued 08 May 2018 expires 07 May 2025; alt. Passport 50641895930 (Turkey) expires 10 Jul 2030; Identification Number 784196536027277 (United Arab Emirates) (individual) [DRCONGO] (Linked To: AFRICAN GOLD REFINERY LIMITED).

Designated pursuant to section 1(a)(ii)(C)(7) of Executive Order 13413 of October 27, 2006, “Blocking Property of Certain Persons Contributing to the Conflict in the Democratic Republic of the Congo,” 71 FR 64105, 3 CFR, 2006 Comp., p. 247, as amended by Executive Order 13671 of July 8, 2014 “Taking Additional Steps to Address the National Emergency With Respect to the Conflict in the Democratic Republic of the Congo,” 79 FR 39949, 3 CFR, 2014 Comp., p. 280 (“the Order”), for being responsible for or complicit in, or having engaged in, directly or indirectly, support to persons, including armed groups, involved in activities that threaten the peace, security, or stability of the Democratic Republic of the Congo (DRC) or that undermine democratic processes or institutions in the DRC, through the illicit trade in natural resources of the DRC.

Also designated pursuant to section 1(a)(ii)(E) of the Order, for being a leader of AFRICAN GOLD REFINERY LIMITED, an entity whose property and interests in property are blocked pursuant to the Order.

Also designated pursuant to section 1(a)(ii)(G) of the Order, for having acted or purported to act for or on behalf of, directly or indirectly, AFRICAN GOLD REFINERY LIMITED, an entity whose property and interests in property are blocked pursuant to the Order.

Entities

1. AFRICAN GOLD REFINERY LIMITED (a.k.a. AFRICAN GOLD REFINERY UGANDA), Plot No. M103 and 106, Sebugwawo Road, Entebbe, Uganda; P.O. Box 37574, Kampala, Uganda; Organization Type: Mining of other non-ferrous metal ores; Target Type Private Company; Registration Number 180334 (Uganda) [DRCONGO] (Linked To: GOETZ, Alain Francois Viviane).

Designated pursuant to section 1(a)(ii)(C)(7) of the Order, for being responsible for or complicit in, or having engaged in, directly or indirectly, support to persons, including armed groups, involved in activities that threaten the peace, security, or stability of the DRC or that undermine democratic processes or institutions in the DRC, through the illicit trade in natural resources of the DRC.

2. AGOR DMCC (a.k.a. AGOR LTD; a.k.a. AGOR PRECIOUS METALS), Office Number 703A, 7th Floor, Mazaya Business Avenue, AAI, JLT, Dubai, United Arab Emirates; Organization Type: Manufacture of jewellery and related articles; Commercial Registry Number 30641 (United Arab Emirates); alt. Commercial Registry Number 805920 (United Arab Emirates) [DRCONGO] (Linked To: GOETZ, Alain Francois Viviane).

Designated pursuant to section 1(a)(ii)(G) of the Order, for being owned or controlled by, directly or indirectly, Alain Francois Viviane GOETZ, a person whose property and interests in property are blocked pursuant to the Order.

3. AGR INTERNATIONAL LIMITED, Global Gateway, 8 rue de la Perle, Providence, Mahe, Seychelles; Organization Type: Activities of holding companies; Target Type Private Company; Company Number 200304 (Seychelles) [DRCONGO] (Linked To: GOETZ, Alain Francois Viviane).

Designated pursuant to section 1(a)(ii)(G) of the Order, for being owned or controlled by, directly or indirectly, Alain Francois Viviane GOETZ, a person whose property and interests in property are blocked pursuant to the Order.

4. ALAXY (a.k.a. ALAXY BVBA; f.k.a. BERKENRODE BVBA), Jacob Jacobsstraat 56, Antwerp 2018, Belgium; Organization Type: Other business support service activities n.e.c.; Target Type Private Company; Enterprise Number 0478862274 (Belgium) [DRCONGO] (Linked To: GOETZ, Alain Francois Viviane).

Designated pursuant to section 1(a)(ii)(G) of the Order, for being owned or controlled by, directly or indirectly, Alain Francois Viviane GOETZ, a person whose property and interests in property are blocked pursuant to the Order.

5. CG—VASTGOED INVEST, Jacob Jacobsstraat 56, Antwerp 204818, Belgium; Organization Type: Activities of holding companies; Target Type Public Company; Enterprise Number 0806408906 (Belgium) [DRCONGO] (Linked To: GOETZ, Alain Francois Viviane).

Designated pursuant to section 1(a)(ii)(G) of the Order, for being owned or controlled by, directly or indirectly, Alain Francois Viviane GOETZ, a person whose property and interests in property are blocked pursuant to the Order.

6. GOETZ GOLD LLC (a.k.a. PGR GOLD LLC; a.k.a. PGR GOLD TRADING LLC), Dubai, United Arab Emirates; Organization Type: Mining of other non-ferrous metal ores; Commercial Registry Number 689308 (United Arab Emirates) [DRCONGO] (Linked To: GOETZ, Alain Francois Viviane).

Designated pursuant to section 1(a)(ii)(G) of the Order, for being owned or controlled by, directly or indirectly, Alain Francois Viviane GOETZ, a person whose property and interests in property are blocked pursuant to the Order.

7. OROFINO NV (a.k.a. “OROFINO”), Jacob Jacobsstraat 56, Antwerp 2018, Belgium; Organization Type: Activities of holding companies; Target Type Public Company; Enterprise Number 0892529761 (Belgium) [DRCONGO] (Linked To: GOETZ, Alain Francois Viviane).

Designated pursuant to section 1(a)(ii)(G) of the Order, for being owned or controlled by, directly or indirectly, Alain Francois Viviane GOETZ, a person whose property and interests in property are blocked pursuant to the Order.

8. PREMIER GOLD REFINERY LLC, Al Qusais Industrial 5, Dubai, United Arab Emirates; P.O. Box 64701, Dubai, United Arab Emirates; Plot No. 248-384, Dubai, United Arab Emirates; Organization Type: Manufacture of basic precious and other non-ferrous metals; Business Registration Number 716708 (United Arab Emirates) [DRCONGO] (Linked To: GOETZ, Alain Francois Viviane).

Designated pursuant to section 1(a)(ii)(G) of the Order, for being owned or controlled by, directly or indirectly, Alain Francois Viviane GOETZ, a person whose property and interests in property are blocked pursuant to the Order.

9. WWG DIAMONDS, Jacob Jacobsstraat 56, Antwerp 2018, Belgium; Target Type Private Company; Enterprise Number 0821135682 (Belgium) [DRCONGO] (Linked To: GOETZ, Alain Francois Viviane).

Designated pursuant to section 1(a)(ii)(G) of the Order, for being owned or controlled by, directly or indirectly, Alain Francois Viviane GOETZ, a person whose property and interests in property are blocked pursuant to the Order.

Dated: March 17, 2022.
Andrea Gacki,
Director, Office of Foreign Assets Control, U.S. Department of the Treasury.

[FR Doc. 2022-06087 Filed 3-22-22; 8:45 am]

BILLING CODE 4810-AL-P